DEPARTMENT OF TRANSPORTATION

Federal Aviation Administration

Notice of Submission Deadline for Schedule Information for Chicago O'Hare International Airport, John F. Kennedy International Airport, Los Angeles International Airport, Newark Liberty International Airport, and San Francisco International Airport for the Winter 2018/2019 Scheduling Season

AGENCY: Federal Aviation Administration (FAA), Department of Transportation.

ACTION: Notice of submission deadline.

SUMMARY: Under this notice, the FAA announces the submission deadline of May 17, 2018, for winter 2018/2019 flight schedules at Chicago O'Hare International Airport (ORD), John F. Kennedy International Airport (JFK), Los Angeles International Airport (LAX), Newark Liberty International Airport (EWR), and San Francisco International Airport (SFO). The deadline coincides with the schedule submission deadline for the International Air Transport Association (IATA) Slot Conference for the winter 2018/2019 scheduling season.

DATES: Schedules must be submitted no later than May 17, 2018.

ADDRESSES: Schedules may be submitted by mail to the Slot Administration Office, AGC-200, Office of the Chief Counsel, 800 Independence Avenue SW, Washington, DC 20591; facsimile: 202-267-7277; or by email to: 7-AWA-slotadmin@faa.gov.

FOR FURTHER INFORMATION CONTACT: Bryan Bourgoin, System Operations Services, Air Traffic Organization, Federal Aviation Administration, AJR-0, Room 300W, 800 Independence Avenue SW, Washington, DC 20591; telephone number: 202-267-0968; email: bryan.bourgoin@faa.gov.

SUPPLEMENTARY INFORMATION: The FAA has designated EWR, LAX, ORD\\, and SFO as IATA Level 2 airports and JFK as an IATA Level 3 airport under the Worldwide Slot Guidelines (WSG). The FAA currently limits scheduled operations at JFK by Order until October 27, 2018.¹ The FAA intends to extend the effective date of the JFK Order prior to the expiration of the current Order.

¹ Operating Limitations at John F. Kennedy International Airport, 73 FR 3510 (Jan. 18, 2008), as amended 81 FR 40167 (June 21, 2016).

The FAA is primarily concerned about scheduled and other regularly conducted commercial operations during peak hours, but carriers may submit schedule plans for the entire day. At ORD, the peak hours for the winter 2018/2019 scheduling season are 0700 to 2100 Central Time (1300 to 0300 UTC), at LAX and SFO from 0600 to 2300 Pacific Time (1400 to 0700 UTC), and at EWR and JFK from 0600 to 2300 Eastern Time (1100 to 0400 UTC). These hours are unchanged from previous scheduling seasons. Carriers should submit schedule information in sufficient detail including, at minimum, the marketing or operating carrier, flight number, scheduled time of operation, frequency, aircraft equipment, and effective dates. IATA standard schedule information format and data elements for communications at Level 2 and Level 3 airports in the IATA Standard Schedules Information Manual (SSIM) Chapter 6 may be used. The WSG provides additional information on schedule submissions at Level 2 and Level 3 airports.

The U.S. winter scheduling season is from October 28, 2018, through March 30, 2019, in recognition of the IATA northern winter scheduling period. The FAA understands there may be differences in schedule times due to different U.S. daylight saving time dates and will accommodate these differences to the extent possible.

General Information for All Airports

The FAA considers several factors and priorities as it reviews schedule requests at Level 2 airports. The WSG states that schedule facilitation is based on schedule adjustments mutually agreed between the airlines and the facilitator; to avoid exceeding the airport's coordination parameters, that the concepts of historic precedence and series of slots do not apply at Level 2 airports, and that the facilitator should adjust the smallest number of flights by the least amount of time necessary to avoid exceeding the airport's coordination parameters. The WSG also includes priorities such as services from the previous equivalent season over new demand for the same timings, services that are unchanged over services that plan to change time or other capacity relevant parameters, introduction of year-round services, effective period of operation, regularly planned operations over ad hoc operations, and other operational factors that may limit a carrier's timing flexibility. In addition, Congress, the Department of Transportation (DOT), through the FAA and the Office of the Secretary (OST), and the Department of Justice have adopted a number of measures to promote competition and new entry at U.S. slot controlled airports and, likewise, the WSG has priorities to consider new entry and competition at Level 3 airports. The FAA prioritizes new entrant flights within the scheduling limits for the airport.

Generally, the FAA uses average hourly runway capacity throughput for airports and performance metrics in its schedule reviews at Level 2 airports.² The FAA also considers other factors that can affect operations, such as capacity changes due to runway, taxiway, or other airport construction, air traffic control procedural changes, airport surface operations, or historical or projected flight delays and congestion. At JFK, the scheduling limit of 81 operations per hour is established in the FAA Order.

² The FAA typically determines an airport's average adjusted runway capacity or throughput for Level 2 and Level 3 airports by reviewing hourly data on the arrival and departure rates that air traffic control indicates could be accepted for that hour, commonly known as “called” rates. We also review the actual number of arrivals and departures that operated in the same hour. Generally, the FAA uses the higher of the two numbers, called or actual, for identifying trends and schedule review purposes. Some dates are excluded from analysis, such as during periods when extended airport closures or construction could affect capacity.

Slot management in the United States differs from other countries that follow the IATA WSG. In the United States, the FAA is responsible for facilitation and coordination of runway access for takeoffs and landings at Level 2 and Level 3 airports; however, the airport authority or its designee is responsible for facilitation and coordination of terminal/gate/airport facility access. The process with the individual airports for terminal access and other airport services is separate from, and in addition to, the FAA schedule review based on runway capacity. Approval from both the FAA and the airport authority for runway and airport availability, respectively, is necessary before implementing schedule plans. Contact information for Level 2 and Level 3 airports is available at http://www.iata.org/policy/slots/Pages/slot-guidelines.aspx.

The FAA seeks to improve communications with carriers and schedule facilitators at Level 2 airports on potential runway schedule issues or terminal and gate issues that may affect the runway times. The FAA also seeks to reduce the time that carriers consider proposed offers on schedules, especially within peak periods or in periods of limited availability with competing requests. Retaining open offers for extended periods of time may delay the facilitation process for the airport. Reducing this delay is particularly important to allow the FAA to make informed decisions at airports where some hours are at or near the scheduling limits. If carriers do not accept the offers or continue to submit revised schedules that are above the limits, the FAA cannot effectively assess the final proposed schedules. The agency recognizes that there are circumstances that may require some schedules to remain pending. However, the FAA expects to substantially complete the process on initial submissions each scheduling season within 30 days of the end of the Slot Conference. After this time, the agency would confirm the acceptance of offers or issue a denial of schedule requests so that there is no ambiguity about the initial approved and unapproved schedules.

Finally, the FAA notes that the schedule information submitted by carriers to the FAA may be subject to disclosure under the Freedom of Information Act (FOIA). The WSG also provides for release of information at certain stages of slot coordination and schedule facilitation. In general, once it takes action, the FAA may release information on slot allocation or similar slot transactions or schedule information reviewed as part of the schedule facilitation process. The FAA does not expect that practice to change and most slot and schedule information would not be exempt from release under FOIA. The FAA recognizes that some airlines may submit information on schedule plans that is not available to the public and may be considered by the carrier to be proprietary. Carriers that submit slot or schedule information deemed proprietary should clearly mark such information accordingly. The FAA will take the necessary steps to protect properly designated information to the extent allowable by law.

JFK Schedules

The Port Authority of New York and New Jersey (PANYNJ) plans construction on JFK Runway 13L/31R. The FAA will review the final phasing and assess the operational impacts once the construction plans are available. Mitigation strategies for prior runway construction projects could be used as needed. These include a “playbook” describing operational plans for various runway configurations and operating conditions, working with carriers to reduce schedules during certain periods or retime flights to less congested periods, limiting approval for new flights, or encouraging temporary reductions by waiving minimum slot usage requirements. The PANYNJ holds regular meetings with airlines and other stakeholders to discuss construction plans and consults with the FAA and local air traffic control facilities to minimize operational impacts. JFK operators also meet regularly to discuss operational issues at the airport. The FAA meets quarterly with stakeholders on operational issues in the greater New York City area. These various local meetings may be the best source of current construction-related information to assist in planning schedules and operations.

EWR Schedules

The FAA is continuing to monitor operations and delays at EWR, especially in the busiest afternoon and evening hours. The FAA announced the change in designation to Level 2 at EWR in April 2016.³ Delays in summer 2016 increased over summer 2015, in part because allocated slots in the afternoon and evening hours were used at higher rates than in 2015. Subsequently, as expected, delays further increased as a result of new entry at EWR enabled by the change to Level 2. However, compared to summer 2007 when the airport operated without scheduling limits and slots ⁴, most performance metrics for summer 2017 were better than summer 2007 despite the additional flights under Level 2. The FAA recognizes there have been a number of changes in the NYC area since 2007, including changes in airspace and procedures, regulatory changes such as crew flight and duty time and long flight (tarmac) delays, and network management by airlines. The FAA is reviewing the current performance goals as well as any related capacity and operational impacts caused by these changes.

³ Change of Newark Liberty International Airport (EWR) Designation, 81 FR 19861 (Apr. 6, 2016).

⁴ Order Limiting Scheduled Operations at Newark Liberty International Airport, 73 FR 29550 (May 21, 2008). The EWR Order took effect in June 2008. In addition to reviewing performance metrics on a year-over-year basis for the busiest summer months, one FAA goal in adopting the Order was to manage schedules and keep delays from exceeding summer 2007 levels. In summer 2017, the number of arriving flights delayed by two hours or more increased by 5.5 percent compared to summer 2007.

Since transitioning to Level 2, requests for flights in the afternoon and evening hours have consistently exceeded the scheduling limits at EWR. The FAA advised carriers it would not be able to accommodate all requests for new operations and has reached agreement in most cases with carriers to retime flights as necessary in the initial seasons under Level 2. For the summer 2018 season, the FAA lowered the scheduling limit from 81 to 79 operations per hour based on an updated airport capacity analysis and review of summer 2017 performance. The winter season limits were already at 79 per hour based on winter season capacity analyses. For summer 2018, the FAA encouraged carriers to reduce operations in the peak periods and operate flights in less congested hours to improve operations and reduce delays, particularly in the afternoon and evening hours. However, the FAA advised it would accept flights above the new hourly limits if the flights were operated in summer 2017. The FAA also indicated new flights were possible in hours with fewer than 79 operations.

Despite the FAA's efforts to facilitate voluntary scheduling cooperation at EWR, certain carriers have been unwilling to reduce operations in peak hours to assist with the growing delays. Average demand for summer 2018 in the afternoon and evening hours remains at 81 operations per hour as it was in summer 2017. There are periods when the demand in half-hours or consecutive half-hours exceeds the optimum runway capacity. The imbalance of scheduled arrivals and departures in certain periods has also contributed to increased congestion and delays when the demand exceeds the called arrival or departure rates. For example, early afternoon arrivals exceed optimum runway capacity and air traffic control regularly implements traffic management initiatives including ground delay programs. Recent FAA modeling indicates retiming arrivals from the 1400 hour to the 1300 and 1200 hours could have significant delay reduction benefits and help preserve the Level 2 designation at EWR.

For the summer 2018 season, airlines generally agreed to retime requests for new flights to periods outside of the peak hours. However, this growth has resulted in more hours with operations at the scheduling limits. As the summer 2018 schedules are expected to be similar to summer 2017, the performance metrics are highly unlikely to improve without further summer schedule adjustments.

In light of the increasing delays in the peak afternoon hours due to the unwillingness of certain carriers to voluntarily retime historic flights into other less congested periods and the imbalance of arrivals and departures, the FAA is adopting new half-hourly scheduling limits of 43 operations, in addition to the current hourly limit of 79 per hour. As noted earlier, it is important to maintain a balance between arrivals and departures to limit delays. The maximum number of arrivals or departures, respectively, which can be accommodated is 43 in an hour and 24 in a half-hour. This would allow some higher levels of operations in certain periods (not to exceed the hourly limits) and some recovery from lower demand in adjacent periods.⁵ The FAA is seeking voluntary cooperation by all carriers to retime flights within the described limits. Based on the average winter 2017/2018 schedules, modest changes would be needed in only a few periods to be within these limits. Additional flights could be approved in hours that are below the scheduling limits.

⁵ The half-hour and arrival and departure limits are approximately 55 percent of the typical hourly adjusted airport capacity.

Based on demand in winter 2017/2018 and summer 2018, the FAA anticipates the highest demand for flights will be in the 0700 and 0800 local hours (1200 to 1359 UTC) and 1400 to 2159 local hours (1900 to 0259 UTC). Requests for new flights will not be approved unless the hourly scheduled operations are within the previously described hourly limits. Consistent with the WSG, carriers should be prepared to adjust schedules to meet the hourly limits in order to minimize potential congestion and delay.

The FAA seeks to reach agreement with carriers to schedule flights within the scheduling limits and urges all carriers to cooperate. The FAA is introducing the half-hourly and arrivals and departures limits within each hour in an effort to preserve the Level 2 designation at EWR. If voluntary schedule adjustments are not achievable and delays continue to increase, the FAA will consider whether a Level 3 designation is necessary. If a Level 3 designation is warranted, the FAA will work closely with OST regarding policies for the reintroduction of slot controls at EWR, which may include considering options to address access at the airport. In addition, the DOT and the FAA will determine whether a schedule reduction meeting is necessary pursuant to 49 U.S.C. 41722.

Issued in Washington, DC, on May 4, 2018.
Jeffrey Planty,
Deputy Vice President, System Operations Services.

[FR Doc. 2018-09894 Filed 5-8-18; 8:45 am]

BILLING CODE 4910-13-P